DEPARTMENT OF AGRICULTURE

Submission for OMB Review; Comment Request

December 31, 2008

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: PACA Customer Service Line Survey.

OMB Control Number: 0581-NEW.

Summary of Collection: The Perishable Agricultural Commodities Act (PACA) 7 U.S.C. 499a-499s and PACA Regulations 7 CFR Part 46, establishes a code of fair trade practices covering the marketing of fresh and frozen fruits and vegetables in interstate and foreign commerce. To better facilitate the delivery of services to the fruit and vegetable industry, the Agricultural Marketing Service (AMS) launched in early 2007 the PACA Branch's Customer Service Line, a fast and easy way for fruit and vegetable industry members to get answers to their questions on a wide range of PACA related issues. PACA will conduct a voluntary monthly telephone survey of its Customer Service Line customers to gauge its customers' current level of satisfaction.

Need and Use of the Information: The Customer Service Line provides callers with immediate access to experts who can offer advice on a variety of PACA topics including contract disputes, interpretation of inspection reports, guidance regarding a good delivery issue and license information. To provide AMS' PACA customers an opportunity to evaluate the timeliness, cost-effectiveness, accuracy, consistency, usefulness of services and professional service of PACA Branch employees, AMS will conduct a random telephone survey each month of the customers that utilize the Customer Service Line that month. The survey instrument will consist of up to nine questions and may be changed during the 3-year period in response to information gathered from survey participants. The information collected from the survey will allow AMS and PACA Branch management to determine customers' satisfaction with existing PACA services, compare results from year to year, and determine what new services customers desire.

Description of Respondents: Business or other for-profit; Farms.

Number of Respondents: 240.

Frequency of Responses: Reporting: Monthly.

Total Burden Hours: 20.

Charlene Parker,
Departmental Information Collection Clearance Officer.

[FR Doc. E8-31455 Filed 1-5-09; 8:45 am]

BILLING CODE 3410-02-P